DEPARTMENT OF TRANSPORTATION

National Highway Traffic Safety Administration

[Docket No. NHTSA-2011-0058; Notice 2]

Withdrawal of Notice of Receipt of Petition

AGENCY: National Highway Traffic Safety Administration, DOT.

ACTION: Notice withdrawal.

SUMMARY: On April 23, 2012, NHTSA inadvertently republished, at 77 FR 24265, a notice that the agency had received a petition for a decision of inconsequential noncompliance from Toyota Motor Corporation, Inc., on behalf of Toyota Corporation and Toyota Manufacturing, Indiana, Inc. NHTSA has withdrawn that notice. The notice of receipt of the petition was originally published on June 16, 2011 (76 FR 35271), and the comment period closed on July 18, 2011. NHTSA will soon publish the notice of the agency's decision on the petition.

Authority: (49 U.S.C. 30118, 30120: Delegations of authority at CFR 1.50 and 501.8)

Issued on: April 26, 2012.
Claude H. Harris,
Director, Office of Vehicle Safety Compliance.

[FR Doc. 2012-10770 Filed 5-3-12; 8:45 am]

BILLING CODE 4910-59-P